FEDERAL COMMUNICATIONS COMMISSION

[FCC 06-177]

Notice of Debarment

AGENCY: Federal Communications Commission.

ACTION: Notice.

SUMMARY: The Enforcement Bureau (Bureau) debars Premio, Inc. (Premio) from all activities associated with the schools and libraries universal service support mechanism, also known as the E-Rate program. Premio pled guilty to and was convicted of serious fraud-related felonies against the E-Rate program. We find Premio's conduct merits a debarment of at least three years, as contemplated by our debarment rule, but in light of several important factors, we will impose a debarment period of one year.

DATES: Debarment commences on the Premio, Inc. receives the debarment letter or whichever date comes first, for a period of one year.

FOR FURTHER INFORMATION CONTACT: Diana Lee, Federal Communications Commission, Enforcement Bureau, Investigations and Hearings Division, Room 4-A265, 445 12th Street, SW., Washington, DC 20554. Diana Lee may be contacted by phone at 202-418-1420 or e-mail at diana.lee@fcc.gov.

SUPPLEMENTARY INFORMATION: This a summary of the Commission's Notice of Debarment, released January 22, 2007. As an additional precaution to protect the E-Rate program, we put in place two monitoring measures to ensure Premio's compliance upon its re-entry into the E-Rate program, in the event that Premio re-enters the E-Rate program during its three year probation period. First, we order USAC to review with heightened scrutiny Premio's applications submitted during the first two funding years after re-entry.¹ Second, we order the Administrator to conduct automatic annual audits regarding Premio's compliance with the Act and the Commission's rules governing the E-Rate program, for each of the first two funding periods upon Premio's re-entry. We find these additional precautionary measures are necessary to ensure that E-Rate funds are used only for their intended purpose and that the program is not subject to additional waste, fraud, or abuse. The full text of this Notice is available for inspection and copying during normal business hours in the FCC Reference Center, Room CY-A-257, 445 12th Street, SW., Washington, DC 20554. The complete text may also be purchased from the Commission's duplicating contractor, Best Copy and Printing, Inc. (BCP), Portals II, 445 12th Street, SW., Room CY-B402, Washington, DC 20554. The complete item is also available on the Commission's Web site at http://www.fcc.gov/eb.

¹ See Fifth Report and Order, 19 FCC Rcd at 15822-23, para. 44. We note that the Commission currently is considering what particular requirements, if any, that it should apply in conducting heightened review of E-Rate program participants. See Universal Service Fund Oversight NPRM, 20 FCC Rcd at 11345, para. 91.

Federal Communications Commission.
Hillary S. DeNigro,
Chief, Investigations and Hearings Division, Enforcement Bureau.

[FR Doc. E7-1795 Filed 2-2-07; 8:45 am]

BILLING CODE 6712-01-P